DEPARTMENT OF THE INTERIOR

Bureau of Land Management

[CA 680-07-5101-ER B241] [CACA 48254]

Granite Mountain LLC Wind Farm, California Desert District, Notice of Intent To Prepare an Environmental Impact Statement/Notice of Preparation of an Environmental Impact Report and To Amend the California Desert Conservation Area Plan

AGENCY: Bureau of Land Management, Interior.

ACTION: Notice of intent.

SUMMARY: Pursuant to section 102(2)(c) of the National Environmental Policy Act of 1969, as amended (NEPA), 42 U.S.C. 4321-4347, the Bureau of Land Management (BLM), Barstow Field Office, Barstow, California, in coordination with the County of San Bernardino (County), California will prepare a joint Environmental Impact Statement/Environmental Impact Report (EIS/EIR) for the development and operation of a wind energy farm on public and private lands in the Granite Mountains, north of Apple Valley, California to meet the requirements of both the California Environmental Quality Act (CEQA), and NEPA. The project and associated ancillary facilities will require both BLM and County authorizations. Pursuant to the California Desert Conservation Area (CDCA) Plan, new power generation projects must be evaluated through the planning process. By this notice the BLM is announcing a 30-day period for public scoping of alternatives, issues, the scope of the direct, indirect, and cumulative analysis for this proposal and associated planning criteria. In addition, BLM is requesting the views of other agencies as to the scope and content of the environmental information that is germane to the statutory responsibilities or areas of expertise for your agencies in connection with the proposed project and the analysis of its impacts.

DATES: This notice initiates the public scoping process. Requests for participation in the development of this EIS/EIR as a cooperating or participating agency, and comments on issues or alternatives related to this proposal must be received within 30 days of the date of publication of this notice in the Federal Register, and may be submitted in writing to the address listed below. Additionally, at least two scoping meetings will be held to encourage public input. The public meetings will be announced through the local news media, newspapers, and the BLM Web site (http://www.ca.blm.gov/barstow) at least 15 days prior to the event. Additional opportunities for public participation will be provided upon publication of the draft EIS/EIR.

ADDRESSES: Requests for participation in the EIS development by agencies, requests to be added to the mailing list, and comments on the scope and content of the EIS should be sent to Edy Seehafer, Environmental Coordinator, Bureau of Land Management, Barstow Field Office, 2601 Barstow Road, Barstow, CA 92311, or by fax at 760-252-6099, or e-mail at eseehafe@blm.gov. A follow-up hard copy is requested when comments are sent by fax or e-mail, to assure readability. Documents pertinent to this proposal, including comments with the names and addresses of respondents, will be available for public review Monday through Friday, except holidays, at the BLM Barstow Field Office located at 2601 Barstow Road, Barstow, California, during regular business hours of 7:45 a.m. to 4:30 p.m. and at the County of San Bernardino, either at 385 N. Arrowhead Avenue, San Bernardino or at 15456 West Sage Street, Victorville, CA 92392, during regular business hours of 8 a.m. to 5 p.m., and may be published as part of the EIS/EIR. Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety.

FOR FURTHER INFORMATION CONTACT: Technical Information: Joan Patrovsky, 760-252-6032, or jpatrovs@blm.gov.

EIS/EIR Process: Edy Seehafer, 760-252-6032, or eseehafe@blm.gov.

SUPPLEMENTARY INFORMATION: Granite Wind, LLC has applied for a right of way on public lands and a conditional use permit on private lands to construct a wind energy generating facility at Granite Mountain, near Apple Valley, in San Bernardino County. The project site is east of Apple Valley and west of Lucerne Valley. Operations are expected to last approximately 30 years. The proposed project would install approximately 27 wind turbines on public and private lands, with a generating capacity of approximately 62.1 to 81 megawatts, depending on the make and model of wind turbines used for the proposed project. Related structures would include access roads, underground 34.5 kV transmission lines and fiber-optic cables, an electrical substation and a 230 kV power-line from the project site to Southern California Edison's existing 230 kV transmission system and an electrical substation interconnecting the project to the existing 230 kV transmission system. If approved, the wind energy generating facility on public lands would be authorized in accordance with Title V of the Federal Land Policy and Management Act of 1976 and the federal regulations at 43 CFR 2800. The proposed project would take approximately 7 months to construct.

Issues that are anticipated to be addressed in this EIS/EIR and plan amendment include visual impacts, avian impacts, socioeconomic impacts, electrical transmission capacity, and cumulative impacts. The CDCA Plan (1980, as amended), while recognizing the potential compatibility of wind generation facilities on public lands, requires that all power generating facilities be considered through the planning process. Planning criteria for consideration of a CDCA plan amendment to provide for power generation at this site include:

a. The plan amendment will be completed in compliance with FLPMA, NEPA and all other applicable Federal and State laws, Executive orders, and management policies of the BLM;

b. The plan amendment will recognize and conform to previous site-specific planning decisions from BLM regional and bioregional plans;

c. Where existing planning decisions are still valid, those decisions will remain unchanged;

d. Where appropriate, this EIS will reference the BLM Programmatic Wind EIS (2005);

e. For the purposes of cumulative analysis, past, present, and reasonably foreseeable projects will be those alternative energy projects which have been approved, or for which a draft or final plan of development has been received, or is anticipated prior to the release of the Draft or Final EIS, within the CDCA;

f. The plan amendment will recognize valid existing rights; and

g. Interagency and Native American Tribal consultations will be conducted in accordance with policy, and will be given due consideration. The planning process will include the consideration of impacts on Indian trust assets, other jurisdictions, and agencies.

Copies of the environmental assessment and initial study are not attached. Pursuant to NEPA Departmental Guidelines, in 516 DM 11.4 and CEQA Guidelines, Section 15063(a), the Bureau of Land Management and the County of San Bernardino have opted to forgo preparation of an initial study and proceed directly to a draft EIS/EIR.

Dated: November 21, 2007.
Roxie C. Trost,
Field Manager, Barstow Field Office.

[FR Doc. E7-23728 Filed 12-5-07; 8:45 am]

BILLING CODE 4310-40-P